DEPARTMENT OF ENERGY

Federal Energy Regulatory Commission

[Docket No. P-2114-104]

Yakama Nation, Complainant, v. Public Utility District No. 2 of Grant County, Washington, Respondent; Notice of Complaint

February 15, 2002.

Take notice on February 12, 2002, the Yakama Nation (Complainant) filed with the Federal Energy Regulatory Commission (Commission) a document entitled “Complaint of Yakama Nation Requesting Fast Track Processing.” The complainant requests, pursuant to 18 CFR 385.206 of the Commission's regulations, that the Commission find Public Utility District No. 2 of GrantCounty, Washington to be in violation of its license for the Priest Rapids Hydroelectric Project (“Project”), FERC Project No. 2114, Federal law authorizing the development of the Project, as well as sections 10, 19, and 20 Federal Power Act due to discriminatory and anticompetitive provisions contained in wholesale power contracts required under the Project license. The Complainant requests that the Commission require the Licensee to correct these violations and requests Fast Track Processing of the Complaint.

Pursuant to Rule 206(f) of the Commission's regulations, answers to complaints are due within 20 days after filing or, if noticed, after publication of the notice in the Federal Register, unless otherwise ordered. 18 CFR 385.206(f).

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before March 4, 2002. Protests will be considered by the Commission in determining the appropriate action to be taken, but will not serve to make protestants parties to the proceeding. Any person wishing to become a party must file a motion to intervene. Answers to the complaint shall also be due on or before March 4, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Magalie R. Salas,
Secretary.

[FR Doc. 02-4484 Filed 2-25-02; 8:45 am]

BILLING CODE 6717-01-P